FEDERAL MEDIATION AND CONCILIATION SERVICE

29 CFR Part 1404

RIN 3076-AA23

Rescission of the Arbitration Policy; Schedule of Fees

AGENCY: Federal Mediation and Conciliation Service.

ACTION: Final rule; rescission of regulation.

SUMMARY: On April 18, 2019, the Federal Mediation and Conciliation Service (FMCS) published a final rule amending the “Arbitration Policy; Schedule of Fees” to implement an increase in user fees. After careful review, FMCS finds that this rule is no longer suitable for publication. Therefore, this final rule rescinds the appendix regarding the Arbitration Policy; Schedule of Fees.

DATES: This final rule is effective November 18, 2022.

FOR FURTHER INFORMATION CONTACT: Anna Davis, Deputy General Counsel, Office of General Counsel, Federal Mediation and Conciliation Service, 250 E St. SW, Washington, DC 20427; Office/Fax/Mobile 202-606-3737; adavis@fmcs.gov.

SUPPLEMENTARY INFORMATION:

I. Discussion

On April 18, 2019, at 84 FR 16205, the Federal Mediation and Conciliation Service (FMCS) published a final rule amending the “Appendix to Part 1404—Arbitration Policy; Schedule of Fees,” which implemented a modest increase in user fees that had remained unchanged for more than eight years. FMCS increased fees to more accurately reflect FMCS' costs of maintaining the Arbitration Roster and the technology to support it, as well as responding to requests for arbitrator panels and biographical data.

After consideration and review, FMCS has concluded that the rule addressing fees is duplicative and currently incorporated in subparts of the rule. Therefore, FMCS is issuing this final rule, which rescinds the rule on the Appendix to Part 1404—Arbitration Policy; Schedule of Fees.

II. Final Rule

FMCS has determined that this rule is suitable for final rulemaking. The revisions to FMCS' policies and requirements surrounding arbitrators are purely internal matters of agency management, as well as the agency's procedure, and practice. Accordingly, FMCS is not required to engage in a notice and comment process to issue this rule under the Administrative Procedures Act, See U.S.C. 553(a)(2), 553(b)(A). Furthermore, because this rule is procedural rather than substantive, the normal requirement of 5 U.S.C. 553(d) that a rule not be effective until at least 30 days after publication in the Federal Register is inapplicable. FMCS also finds good cause to provide an immediate effective date for this rule because it imposes no obligations on parties outside the federal government and therefore no advance notice is required to enable employers or other private parties to come into compliance.

List of Subjects in 29 CFR Part 1404

Administrative practice and procedure, Labor management relations.

For the reasons discussed in the preamble, and under the authority of 29 U.S.C. 172 and the Taft-Hartley Act of 1947, FMCS amends 29 CFR part 1404 as follows:

PART 1404—ARBITRATION SERVICES

1. The authority citation for part 1404 continues to read as follows:

Authority: 29 U.S.C. 172 and 29 U.S.C. 173 et seq.

Appendix to Part 1404 [Removed]

2. Remove the appendix to part 1404.

Dated: November 15, 2022.
Anna Davis,
Deputy General Counsel.

[FR Doc. 2022-25141 Filed 11-17-22; 8:45 am]

BILLING CODE 6732-01-P